DEPARTMENT OF THE INTERIOR

National Park Service

[2253-663]

Notice of Inventory Completion: U.S. Department of Defense, Army Corps of Engineers, Walla Walla District, Walla Walla, WA, and the University of Oregon Museum of Natural and Cultural History, Eugene, OR

AGENCY: National Park Service, Interior.

ACTION: Notice.

SUMMARY: The United States Department of Defense, Army Corps of Engineers, Walla Walla District, and the University of Oregon Museum of Natural and Cultural History have completed an inventory of human remains in consultation with the appropriate Indian tribes, and have determined that there is a cultural affiliation between the human remains and present-day Indian tribes. Repatriation of the human remains to the Indian tribes stated below may occur if no additional claimants come forward.

DATES: Representatives of any Indian tribe that believes it has a cultural affiliation with the human remains should contact the U.S. Department of Defense, Army Corps of Engineers, Walla Walla District at the address below by March 28, 2012.

ADDRESSES: LTC David Caldwell, U.S. Department of Defense, Army Corps of Engineers, Walla Walla District, 201 North Third Ave., Walla Walla, WA 99362, telephone (509) 527-7700.

SUPPLEMENTARY INFORMATION: Notice is here given in accordance with the Native American Graves Protection and Repatriation Act (NAGPRA), 25 U.S.C. 3003, of the completion of an inventory of human remains under the control of the U.S. Department of Defense, Army Corps of Engineers, Walla Walla District, Walla Walla, WA, and in the physical custody of the University of Oregon Museum of Natural and Cultural History (UO-MNCH), Eugene, OR. The human remains were removed from 45BN3, a village site located on Berrian's Island, in Benton County, WA.

This notice is published as part of the National Park Service's administrative responsibilities under NAGPRA, 25 U.S.C. 3003(d)(3). The determinations in this notice are the sole responsibility of the museum, institution or Federal agency that has control of the Native American human remains. The National Park Service is not responsible for the determinations in this notice.

Consultation

A detailed assessment of the human remains was made by U.S. Department of Defense, Army Corps of Engineers, and UO-MNCH professional staff in consultation with representatives of the Confederated Tribes and Bands of the Yakama Nation, Washington; Confederated Tribes of the Colville Reservation, Washington; Confederated Tribes of the Umatilla Indian Reservation, Oregon; Confederated Tribes of the Warm Springs Indian Reservation of Oregon; Nez Perce Tribe, Idaho; and the Wanapum Band, a non-Federally recognized Indian Group.

History and Description of the Remains

In 1948 and 1949, human remains representing, at minimum, seven individuals were removed from 45BN3, a pre-contact protohistoric village site located on the south side of Berrian's Island, in Benton County, WA. Site 45BN3 is located within the McNary Lock and Dam Project on the Columbia River. The McNary Lock and Dam Project is managed by the U.S. Department of Defense, Army Corps of Engineers, Walla Walla District, who initiated land acquisition processes for the Project in 1947.

In 1947, the Smithsonian Institution's River Basin Survey Project (SRBS) surveyed and surface collected material cultural remains from site 45BN3. In 1948, the SRBS excavated the site and removed 50 burials and 1,650 artifacts. Many of the burials were recovered in situ and were bounded by wood. Originally identified as cists, this wood was later determined to be the burnt remains of conical wood stacks that had been erected over the burials. The associated funerary objects included copper, iron, glass trade beads, shell ornaments and stone implements. Following completion of field investigations, the collections were transported to the SRBS laboratory at the University of Oregon. In 1949, the SRBS returned to site 45BN3 and salvaged four additional burials that had been looted by amateur collectors.

The collections recovered through the SRBS investigations were transferred to three separate repositories: the Smithsonian Institution; the University of Washington (UW) Burke Museum, Seattle, WA; and UO-MNCH, Eugene, OR. The portions of the collections held at UO-MNCH were accessioned between 1950-1952, and include materials from Burials 4-5, 7-9, 11-15, 19, 22, 24-26, 32, 34, 36-37, 39, 41, 43, 45-46, 48-49, and 51-54. Materials from the 1948 and 1949 SRBS collections at UO-MNCH were inventoried in 1985 and again in 1996. The remains of seven individuals (accession #100KT/MP) were documented through the inventory. Due to an absence of associated documentation, these seven individuals cannot be connected to specific burials. The remains are those of an adult male, an adult female, two adults of indeterminate gender, two children and another individual of indeterminate age and gender. No known individuals were identified. No associated funerary objects are present.

The estimated date range of the other burials from site 45BN3 is 1750-1811, based upon the presence of Colonial uniform buttons whose earliest manufacture date is c.1750 and the absence of firearms, whose use by local tribes began c.1811. Further evidence supporting the date of these burials is the volume of trade goods observed in both the burials and in the living area. Site 45BN3 was also reported to have contained evidence of contemporaneous mat lodge pits. Distinctive morphological traits, burial methods and associated funerary objects indicate Native American ancestry and funerary traditions reflective of Native groups of the Columbia Plateau.

Determinations Made by the U.S. Department of Defense, Army Corps of Engineers, Walla Walla District

Officials of the U.S. Department of Defense, Army Corps of Engineers, Walla Walla District, have determined that:

• Pursuant to 25 U.S.C. 3001(9)-(10), the human remains described above represent the physical remains of seven individuals of Native American ancestry.

• Pursuant to 25 U.S.C. 3001(2), there is a relationship of shared group identity that can be reasonably traced between the Native American human remains and the Confederated Tribes and Bands of the Yakama Nation, Washington; Confederated Tribes of the Colville Reservation, Washington; Confederated Tribes of the Umatilla Indian Reservation, Oregon; Confederated Tribes of the Warm Springs Indian Reservation of Oregon; and the Nez Perce Tribe, Idaho (hereafter referred to as “The Tribes”). Additionally, a cultural relationship is determined to exist between the sites and collections and the Wanapum Band, a non-Federally recognized Indian Group.

Additional Requestors and Disposition

Representatives of any other Indian tribe that believes itself to be culturally affiliated with the human remains should contact LTC David Caldwell, U.S. Department of Defense, Army Corps of Engineers, Walla Walla District, 201 North Third Ave., Walla Walla, WA 99362, telephone (509) 527-7700, before March 28, 2012. Repatriation of the human remains to The Tribes and (if joined) the Wanapum Band, a non-Federally recognized Indian Group, may proceed after that date if no additional claimants come forward.

The U.S. Department of Defense, Army Corps of Engineers, Walla Walla District, is responsible for notifying The Tribes and the Wanapum Band, a non-Federally recognized Indian Group, that this notice has been published.

Dated: February 22, 2012.
Sherry Hutt,
Manager, National NAGPRA Program.

[FR Doc. 2012-4514 Filed 2-24-12; 8:45 am]

BILLING CODE 4312-50-P